DEPARTMENT OF TRANSPORTATION

Federal Highway Administration

Withdrawal of a Notice of Intent (NOI) To Prepare an Environmental Impact Statement (EIS)

AGENCY: Federal Highway Administration (FHWA), United States Department of Transportation (USDOT).

ACTION: Notice of NOI withdrawal.

SUMMARY: The FHWA is issuing this notice to advise the public of withdrawal of the NOI to prepare an EIS published in the Federal Register Vol. 71, No. 128, July 5, 2006 for a proposed combined highway and transit project on 1-285 in Cobb, Fulton, and DeKalb Counties, Georgia.

FOR FURTHER INFORMATION CONTACT: Jennifer Giersch, Environmental Coordinator, Federal Highway Administration, 61 Forsyth Street, Suite 17T100, Atlanta, Georgia 30303, Telephone: (404) 562-3653; email: JenniferGiersch@fhwa.dot.gov.

Eric Duff, State Environmental Administrator, Georgia Department of Transportation, One Georgia Center, 16th Floor, Atlanta, Georgia 30308, Telephone: (404) 631-1071; email: eduff@dot.ga.gov.

SUPPLEMENTARY INFORMATION: The FHWA in cooperation with the Georgia Department of Transportation (GDOT), published a NOII on July 5, 2006 to prepare an EIS for a proposed combined highway and transit project along 1-285 from I75 in Cobb County to 1-85 in DeKalb County, a length of approximately 17 miles. FHWA hereby advises the public of the rescission of this NOI. This change occurred because part of the project corridor, the interchange of 1-285 and GA 400, advanced as an independent project with its own purpose and need. Additionally, GDOT's Major Mobility Investment Program refocused the purpose and need for improvements along 1-285. FHWA and GDOT anticipate the issuance of a new NOI for the proposed construction of express lanes along the project corridor.

Any future Federal-aided action within this corridor will comply with the environmental review requirements of the National Environmental Policy Act (NEPA) (42 U.S.C. 4321 et seq.), FHWA implementing environmental regulations (23 CFR part 771) and related authorities, as appropriate. Comments and questions concerning this action should be directed to FHWA at the address provided above.

Authority: 23 U.S.C. 315; 49 CFR 1.48.

Issued on: August 21, 2019.
Moises Marrero,
Division Administrator, Federal Highway Administration, Atlanta, Georgia.

[FR Doc. 2019-18512 Filed 9-4-19; 8:45 am]

BILLING CODE M